DEPARTMENT OF AGRICULTURE

Rural Utilities Service

Oglethorpe Power Corporation; Proposed Biomass Power Plant

AGENCY: Rural Utilities Service, USDA.

ACTION: Notice of Availability of a Final Environmental Impact Statement.

SUMMARY: Notice is hereby given that the Rural Utilities Service (RUS), has prepared a Final Environmental Impact Statement (EIS) to meet its responsibilities under the National Environmental Policy Act (NEPA) and 7 CFR part 1794 related to possible financial assistance to Oglethorpe Power Corporation's (Oglethorpe) for the construction of a 100 megawatt (MW) biomass plant and related facilities (Proposal) in Warren County, Georgia.

The purpose of the Proposal is to provide a reliable, long-term supply of renewable and sustainable energy at a reasonable cost to meet part of the electric energy needs of Oglethorpe's members. Oglethorpe may request financial assistance from the RUS for the Proposal.

DATES: Written comments on this Final EIS will be accepted 30 days following the publication of the U.S. Environmental Protection Agency's notice of receipt of the Final EIS in the Federal Register.

FOR FURTHER INFORMATION CONTACT: To obtain copies of the Final EIS or for further information, contact: Stephanie Strength, Environmental Protection Specialist, USDA, Rural Utilities Service, 1400 Independence Avenue SW., Room 2244, Stop 1571, Washington, DC 20250-1571, or email stephanie.strength@wdc.usda.gov.

ADDRESSES: A copy of the Draft EIS may be viewed online at the following Web site: http://www.rurdev.usda.gov/UWP-OglethorpePower.html and at the: Warren County Public Library, 10 Warren Street Warrenton, Georgia 30828, Phone (706) 465-2656.

SUPPLEMENTARY INFORMATION: Oglethorpe proposes to own, operate, and maintain the Proposal in Warren County, Georgia. The purpose of the Proposal is to provide a reliable, long-term supply of renewable and sustainable energy at a reasonable cost to meet part of the electric energy needs of Oglethorpe's members.

Three alternatives are evaluated in detail in the Final EIS; the no action alternative, and the proposed action at two different locations: Warren County (the Proposal) and Appling County (the Alternate). Alternatives were evaluated in terms of cost-effectiveness, technical feasibility, and environmental impacts. The Final EIS evaluated and eliminated from detailed consideration eight alternatives for renewable generation, non-renewable generation alternatives, demand side management, three alternative sites, two alternatives for cooling, and two alternatives for water supply.

The Proposal would be constructed on an approximately 343-acre site located three-fourths mile east of the city limit of Warrenton, Georgia. The tallest structure would be the stack, with a maximum estimated height of approximately 220 feet. The construction schedule of the Proposal is currently unknown.

A Notice of Availability of the Draft EIS was published in the Federal Register at 76 FR 20624, on April 13, 2011, and in local newspapers. Public hearings on the Draft EIS were held in the project area on May 5, 2011, and public comments were accepted through May 31, 2011.

In accordance with Section 106 of the National Historic Preservation Act and its implementing regulation, “Protection of Historic Properties” (36 CFR part 800) and as part of its broad environmental review process, RUS must take into account the effect of the proposal on historic properties Pursuant to 36 CFR 800.2(d)(3), RUS is using its procedures for public involvement under NEPA to meet its' responsibilities to solicit and consider the views of the public during Section 106 review. Any party wishing to participate more directly with RUS as a “consulting party” in Section 106 review may submit a written request to the RUS contact provided in this notice.

Questions and comments should be sent to RUS at the mailing or email addresses provided in this Notice. RUS will accept comments on the Final EIS 30 days following the publication of the U.S. Environmental Protection Agency's notice of receipt of the Final EIS in the Federal Register. Once completed, a public notice announcing the availability of the Record of Decision will be published in the Federal Register and local newspapers. Because the Proposal may involve impacts to wetlands, this Notice of Availability also serves as a notice of potential impacts to wetlands. In accordance with Executive Order 11990, the Final EIS includes a wetland assessment and statement of no practicable alternatives to proposed impacts to wetlands.

Any final action by RUS related to the proposal will be subject to, and contingent upon, compliance with all relevant Federal, state and local environmental laws and regulations, and completion of the environmental review requirements as promulgated in RUS' Environmental Policies and Procedures (7 CFR part 1794).

Nivin Elgohary,
Assistant Administrator, Electric Programs, Rural Utilities Service.

[FR Doc. 2011-32005 Filed 12-14-11; 8:45 am]

BILLING CODE P